DEPARTMENT OF COMMERCE

International Trade Administration

[C-580-851]

Dynamic Random Access Memory Semiconductors from the Republic of Korea: Amended Final Results of Countervailing Duty Administrative Review

AGENCY: Import Administration, International Trade Administration, Department of Commerce.

EFFECTIVE DATE: April 11, 2006.

FOR FURTHER INFORMATION CONTACT: Ryan Langan, AD/CVD Operations, Office 1, Import Administration, International Trade Administration, U.S. Department of Commerce, 14th Street and Constitution Avenue, NW, Washington, DC 20230; telephone: (202) 482-2613.

SUPPLEMENTARY INFORMATION:

Background

On March 14, 2006, the Department of Commerce (“the Department”) issued its Final Results in the countervailing duty administrative review of dynamic random access memory semiconductors from the Republic of Korea. See Dynamic Random Access Memory Semiconductors from the Republic of Korea: Final Results of Countervailing Duty Administrative Review, 71 FR 14174 (March 21, 2006) (“Final Results”). On March 21, 2006, Hynix Semiconductor, Inc. (“Hynix”) filed timely ministerial error allegations pursuant to 19 CFR 351.224(c)(2). On March 27, 2006, Micron Technology, Inc. (“the petitioner”) responded to Hynix's allegations.

Scope of the Order

The products covered by this order are dynamic random access memory semiconductors (DRAMS) from Korea, whether assembled or unassembled. Assembled DRAMS include all package types. Unassembled DRAMS include processed wafers, uncut die, and cut die. Processed wafers fabricated in Korea, but assembled into finished semiconductors (DRAMS) outside Korea are also included in the scope. Processed wafers fabricated outside Korea and assembled into finished semiconductors in Korea are not included in the scope.

The scope of this order additionally includes memory modules containing DRAMS from Korea. A memory module is a collection of DRAMS, the sole function of which is memory. Memory modules include single in-line processing modules, single in-line memory modules, dual in-line memory modules, small outline dual in-line memory modules, Rambus in-line memory modules, and memory cards or other collections of DRAMS, whether unmounted or mounted on a circuit board. Modules that contain other parts that are needed to support the function of memory are covered. Only those modules that contain additional items which alter the function of the module to something other than memory, such as video graphics adapter boards and cards, are not included in the scope. This order also covers future DRAMS module types.

The scope of this order additionally includes, but is not limited to, video random access memory, and synchronous graphics ram, as well as various types of DRAMS, including fast page-mode, extended data-out, burst extended data-out, synchronous dynamic RAM, rambus DRAM, and Double Data Rate DRAM. The scope also includes any future density, packaging, or assembling of DRAMS. Also included in the scope of this order are removable memory modules placed on motherboards, with or without a central processing unit, unless the importer of the motherboards certifies with U.S. Customs and Border Protection (“CBP”) that neither it, nor a party related to it or under contract to it, will remove the modules from the motherboards after importation or, consistent with the Memorandum from Stephen J. Claeys to David M. Spooner, “Final Scope Ruling,” dated January 12, 2006, unless the importer of the motherboards certifies with CBP that the motherboard is being imported for repair or refurbishment, and that neither it, nor a party related to it or under contract to it, will remove the modules from the motherboards after importation, except as necessary in the course of repair or refurbishment of the motherboards, in which case any subject memory modules removed from the motherboards will be destroyed.

The scope of this order does not include DRAMS or memory modules that are re-imported for repair or replacement, as stated in the Final Scope Ruling, provided that the importing company can demonstrate that the DRAMS or memory modules are being re-imported for repair or replacement to the satisfaction of CBP.

The DRAMS subject to this order are currently classifiable under subheadings 8542.21.8005 and 8542.21.8020 through 8542.21.8030 of the Harmonized Tariff Schedule of the United States (“HTSUS”). The memory modules containing DRAMS from Korea, described above, are currently classifiable under subheadings 8473.30.10.40 and 8473.30.10.80 of the HTSUS. Removable memory modules placed on motherboards, described above, are classifiable under subheading 8471.50.0085, 8517.30.5000, 8517.50.1000, 8517.50.5000, 8517.50.9000, 8517.90.3400, 8517.90.3600, 8517.90,3800, 8517.90.4400 and 8543.89.9600. Although the HTSUS subheadings are provided for convenience and customs purposes, the department's written description of the scope of this order remains dispositive.

Scope Rulings

On December 29, 2004, the Department received a request from Cisco Systems, Inc. (“Cisco”), to determine whether removable memory modules placed on motherboards that are imported for repair or refurbishment are within the scope of the countervailing duty (“CVD order”). The Department initiated a scope inquiry pursuant to 19 CFR 351.225(e) on February 4, 2005. On June 16, 2005, the Department issued a preliminary scope ruling, finding that removable memory modules placed on motherboards that are imported for repair or refurbishment are within the scope of the CVD order. See Memorandum from Julie H. Santoboni to Barbara E. Tillman, “Preliminary Scope Ruling,” dated June 16, 2005. On July 5, 2005, and July 22, 2005, comments on the preliminary scope ruling were received from Cisco. On July 6, 2005, and July 15, 2005, comments were received from Micron.

On January 12, 2006, the Department issued a final scope ruling, finding that removable memory modules placed on motherboards that are imported for repair or refurbishment are not within the scope of the CVD order if the importer certifies that it will destroy any memory modules that are removed during repair or refurbishment. See Final Scope Ruling. The scope of the CVD order was clarified to CBP in message number 6037201, dated February 6, 2006.

Amended Final Results

In accordance with section 751(h) of the Act and 19 CFR 351.224(e), we have determined that the Department made certain ministerial errors in the Final Results and, therefore, we are amending the Final Results to correct these ministerial errors. For a detailed discussion of the ministerial error allegations and the Department's analysis, see Memorandum to Stephen J. Claeys, Countervailing Duty Administrative Review: Dynamic Random Access Memory Semiconductors from the Republic of Korea, regarding Ministerial Error Allegations for Final Results, dated March 31, 2006, which is on file in the Central Records Unit (“CRU”), room B-099 of the main Department building.

The revised countervailing duty rate for Hynix for the period April 7, 2003, through December 31, 2003, is listed below:

Producer/Exporter | Original Final Rate | Amended Final Rate
Hynix Semiconductor, Inc. | 58.22%% | 58.11%%

Assessment Rates

The Department will instruct CBP to liquidate shipments of DRAMS by Hynix entered or withdrawn from warehouse, for consumption from April 7, 2003, through December 31, 2003, at 58.11 percent ad valorem of the entered value. We will also instruct CBP to take into account the “provisional measures cap” in accordance with 19 CFR 351.212(d).

Cash Deposits

The Department also intends to instruct CBP to collect cash deposits of estimated countervailing duties at 58.11 percent ad valorem of the entered value on all shipments of the subject merchandise from Hynix, entered, or withdrawn from warehouse, for consumption on or after the date of publication of this notice. This cash deposit rate shall remain in effect until publication of the final results of the next administrative review.

We are issuing and publishing these amended final results and notice in accordance with sections 751(a)(1), 751(h) and 771(i)(1) of the Act.

Dated: April 4, 2006.
David M. Spooner,
Assistant Secretary for Import Administration.

[FR Doc. E6-5340 Filed 4-10-06; 8:45 am]

BILLING CODE 3510-DS-S